SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. chapter 35 requires federal agencies to publish a notice in the Federal Register concerning each proposed collection of information before submission to OMB, and to allow 60 days for public comment in response to the notice. This notice complies with such requirements.

DATES: Submit comments on or before September 28, 2015.

ADDRESSES: Send all comments to Timothy C. Treanor, Chair, SBA Outreach Task Force, Small Business Administration, 409 3rd Street, Room 7221, Washington, DC 20416.

FOR FURTHER INFORMATION CONTACT: Mr. Treanor, 202-619-1029, timothy.treanor@sba.gov, or Curtis B. Rich, SBA PRA Officer, 202-205-7030, curtis.rich@sba.gov.

SUPPLEMENTARY INFORMATION: This form is a three-page questionnaire, principally in checklist form, designed to give SBA feedback from those who attend events which SBA cosponsors with other organizations. The form does not ask respondents to identify themselves except by NAICS Code. The form asks whether the event provided practical information which allowed them to manage their businesses more effectively and efficiently and gave them a good working knowledge of the subject. It asks whether the program was sufficient. It asks whether each speaker was well-organized, interesting, presented information at the appropriate level, and communicated well. It asks for suggestions for improvement, and for ideas for new topics.

The form asks some demographic information so that SBA can better understand the community which these events serve. Where the event relates to government contracting, it asks whether the respondent has taken advantage of various government contracting programs which SBA offers.

SBA may also use this form to help evaluate programs which it conducts by itself.

Responding to the questionnaire is entirely voluntary.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Outreach Event Survey.

Description of Respondents: Those who attend events which SBA cosponsors with other organizations.

Form Number: 20.

Total Estimated Annual Responses: 40,000.

Total Estimated Annual Hour Burden: 20 minutes.

Curtis B. Rich,
Management Analyst.

[FR Doc. 2015-18705 Filed 7-29-15; 8:45 am]

BILLING CODE 8025-01-P